DEPARTMENT OF THE INTERIOR

National Park Service

[N6501; NPS-WASO-NAGPRA-NPS0041042; PPWOCRADN0-PCU00RP14.R50000]

Notice of Inventory Completion: Merced College, Merced, CA

AGENCY: National Park Service, Interior.

ACTION: Notice.

SUMMARY: In accordance with the Native American Graves Protection and Repatriation Act (NAGPRA), Merced College has completed an inventory of human remains and has determined that there is a cultural affiliation between the human remains and Indian Tribes or Native Hawaiian organizations in this notice.

DATES: Repatriation of the human remains in this notice may occur on or after October 14, 2025.

ADDRESSES: Send written requests for repatriation of the human remains in this notice to Jeff Buechler, Social Sciences—Stop 35, Merced College, 3600 M Street, Merced, CA 95348, email jeffrey.buechler@mccd.edu.

SUPPLEMENTARY INFORMATION: This notice is published as part of the National Park Service's administrative responsibilities under NAGPRA. The determinations in this notice are the sole responsibility of Merced College and additional information on the determinations in this notice, including the results of consultation, can be found in the inventory or related records. The National Park Service is not responsible for the determinations in this notice.

Abstract of Information Available

On an unknown date, human remains representing at least one individual were removed from an unrecorded site labeled “Mariposa,” an unknown location presumably in or near the town of Mariposa in Mariposa County. No associated funerary objects are present.

In the 1920s, human remains representing at least one individual, were removed from a rock shelter in Indian Gulch, presumably somewhere along Indian Gulch Road, south of Hornitos and ten-to-thirty miles from the Don Pedro Reservoir in Mariposa County. These were said to have been removed by “an old timer, a former surveyor with an intimate knowledge of the area around Coulterville” and whose name may have been Maclean. In or before 1970, the human remains were donated to Merced College. No associated funerary objects are present.

On an unknown date, human remains representing at least one individual were removed from “Bagby Cove” (or possibly “Cave,” the written documentation is unclear), presumably near the town of Bagby on Lake McClure in Mariposa County. No associated funerary objects are present.

Cultural Affiliation

Based on the information available and the results of consultation, cultural affiliation is clearly identified by the information available about the human remains.

Determinations

Merced College has determined that:

• The human remains described in this notice represent the physical remains of three individuals of Native American ancestry.

• There is a reasonable connection between the human remains described in this notice and the Bishop Paiute Tribe; Bridgeport Indian Colony; Northfork Rancheria of Mono Indians of California; Picayune Rancheria of Chukchansi Indians of California; and the Tuolumne Band of Me-Wuk Indians of the Tuolumne Rancheria of California.

Requests for Repatriation

Written requests for repatriation of the human remains in this notice must be sent to the authorized representative identified in this notice under ADDRESSES. Requests for repatriation may be submitted by:

1. Any one or more of the Indian Tribes or Native Hawaiian organizations identified in this notice and, if joined to a request from one or more of the Indian Tribes, the Southern Sierra Miwuk Nation (aka American Indian Council of Mariposa County, Inc.), a non-federally recognized Indian group.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after October 14, 2025. If competing requests for repatriation are received, Merced College must determine the most appropriate requestor prior to repatriation. Requests for joint repatriation of the human remains are considered a single request and not competing requests. Merced College is responsible for sending a copy of this notice to the Indian Tribes and Native Hawaiian organizations identified in this notice.

Authority: Native American Graves Protection and Repatriation Act, 25 U.S.C. 3003, and the implementing regulations, 43 CFR 10.10.

Dated: August 29, 2025.
Melanie O'Brien,
Manager, National NAGPRA Program.

[FR Doc. 2025-17619 Filed 9-11-25; 8:45 am]

BILLING CODE 4312-52-P